DEPARTMENT OF THE INTERIOR

Office of the Secretary

Office of Planning and Performance Management; Agency Information Collection Activities: Proposed Collection Extension/Renewal; Comment Request

AGENCY: Department of the Interior.

ACTION: Notice of extension/renewal of information collection survey.

SUMMARY: To comply with the requirements of the Paper Reduction Act (PRA) of 1995, we are inviting comments on the extension/renewal of an information collection, titled, “DOI Programmatic Clearance for Customer Satisfaction Surveys,” OMB Control #1040-0001, that we will submit to the Office of Management and Budget (OMB) for review and approval.

DATES: Please submit written comments by July 9, 2004.

ADDRESSES: Mail or hand carry comments to the Department of the Interior; Office of Policy, Management and Budget; Office of Planning and Performance Management; Attention: Sheri Harris; Mail Stop 5258; 1849 C Street, NW., Washington, DC 20240. If you wish to email comments, the e-mail address is sheri_harris@ios.doi.gov. Reference “DOI Programmatic Clearance for Customer Satisfaction Surveys” in your email subject line. Include your name and return address in your email message and mark your message for return receipt.

FOR FURTHER INFORMATION CONTACT: Sheri L. Harris, Office of Planning and Performance Management, telephone (202) 208-7342. You may also contact Sheri Harris to obtain a copy at no cost of the collection of information statement that will be submitted to the Office of Management and Budget.

SUPPLEMENTARY INFORMATION:

Title: Extension/Renewal of DOI Programmatic Clearance for Customer Satisfaction Surveys.

OMB Control Number: 1040-0001. Renewal/Extension.

Abstract: DOI is requesting an extension/renewal of its 3-year programmatic clearance for customer satisfaction surveys, originally approved by the Office of Management and Budget (OMB) in January 2002 and expiring on January 31, 2005. The programmatic clearance enables Interior bureaus and offices to conduct customer research through external surveys such as questionnaires and comment cards. This information is being collected to improve the services and products that DOI provides to the public. DOI will use this information to support all aspects of planning—from buildings, roads, and interpretive exhibits, to technical systems. DOI anticipates that the information obtained could lead to reallocation of resources, revisions in certain agency processes and policies, development of guidance related to DOI's customer services, and improvement in the way we serve the American public. Ultimately, these changes should result in improvement in services DOI provides to the public and, in turn, the public perception of DOI.

From Whom Will data Be Collected: This proposal seeks to extend/renew an existing Programmatic clearance for Customer Satisfaction Surveys that allows Interior and its organizational units to collect satisfaction information from its customers. Interior defines customers as anyone who uses DOI resources, products, or services. This includes internal customers (anyone within DOI) as well as external customers (e.g., the American public, representatives of the private sector, academia, other government agencies). Depending upon their role in specific situations and interactions, citizens and DOI stakeholders and partners may also be considered customers. We define stakeholders to mean groups or individuals who have an expressed interest in and who seek to influence the present and future state of DOI's resources, products, and services. Partners are defined as those groups, individuals, and agencies who are formally engaged in helping DOI accomplish its mission.

Rationale for Request for Renewal: Interior will request extension/renewal of its Programmatic Clearance for Customer Satisfaction Surveys so that we may better fulfill our responsibilities to provide excellence in government by proactively consulting with those we serve to identify opportunities to improve our information, services, and products to better meet their needs. In addition, customer information is needed to meet requirements of the Government Performance and Results Act (GPRA) of 1993 (P.L. 103-62), the Administration's Program Assessment Rating Tool (PART), the President's Management Agenda (PMA), and Interior's Citizen-Centered Customer Service Policy.

How Data Will Be Used: The GPRA requires agencies to “improve Federal program effectiveness and public accountability by promoting a new focus on results, service quality, and customer satisfaction” (Section 2.b.3). In order to fulfill this responsibility, DOI's bureaus and offices must collect data from their respective user groups to (1) Better understand the needs and desires of the public and (2) respond to those needs and desires accordingly. The renewal will provide us with the necessary authority to collect these data.

Renewal of the Programmatic Clearance for Customer Satisfaction Information is also critical to the Department's ability to collect data essential for assessing progress toward achieving the goals established in our GPRA Strategic Plan. That plan contains a number of performance measures that directly correspond to customer, partner, and stakeholder satisfaction with specific services of Interior and its bureaus and offices. To accurately report whether or not we met targets set for these performance measures, it is imperative for Interior's bureaus and offices to collect data from those we serve.

Interior's Department-wide Customer and Citizen-Centered Service Policy admonishes its bureaus and offices to consult and communicate with customers to integrate their feedback into our programs and business processes in order to improve our service to them. It specifically asks Interior bureaus and offices to obtain customer satisfaction data on an annual basis and to use these data to implement programmatic improvements. The renewal of our Programmatic Clearance will assist these organizations in complying with the Departmental policy.

Executive order (E.O.) 12862 (September 11, 1993) aimed at “ensuring the Federal Government provides the highest quality service possible to the American people” fortifies our mandate by the Secretary of the Interior and the Administration to provide “citizen-centered government.” The E.O. discusses surveys as a means for determining the kinds and qualities of service desired by the Federal Government's customers and for determining satisfaction levels for existing service. These voluntary customer surveys will be used to ascertain customer satisfaction with DOI's bureaus and offices in terms of services and products. Previous customer surveys have provided useful information to DOI's bureaus and offices for assessing how well we deliver our services and products, making improvements, and reporting on GPRA performance goals. The results are used internally, and summaries are provided to the OMB on an annual basis and are used to satisfy the requirements and spirit of E.O. 12862.

Which DOI Bureaus and Offices Are Covered by This Proposal: The proposed renewal/extension covers all of the organizational units and bureaus in DOI. It will enable participating DOI bureaus and offices will perform their customer surveys under one programmatic clearance. Under this proposed renewal/extension, DOI will request that OMB review the procedures and questions for these surveys as a program rather than reviewing each survey individually. Under the procedures proposed here, DOI will conduct the necessary quality control, including assurances that the individual survey comports with the guidelines of the programmatic clearance, and submit the particular survey instrument and methodology for expedited review to OMB.

Types of Questions to be Asked: The participating bureaus and offices propose to voluntarily obtain information from their customers and stakeholders. No one survey will cover all the topic areas; rather, these topic areas serve as a guide within which the agencies will develop their questions. Questions may be asked in languages other than English, e.g., Spanish, where appropriate.

We protect information submitted by respondents that is considered confidential or proprietary under the Freedom of Information Act and in accordance with Privacy Act regulations on protecting these data. Respondents are informed of this assurance on the survey forms or during the course of the survey interview.

1. Communication/information/education: The range of questions envisioned for this topic area will focus on customer satisfaction with aspects of communication/information/products/education offered. Respondents may be asked for feedback regarding the following attributes of the services provided:

• Timeliness

• Consistency

• Ease of Use and Usefulness

• Ease of Information Access

• Helpfulness and Effectiveness

• Quality

• Value for fee paid for information/product/service

• Level of engagement in communications process (i.e., whether respondent feels he/she was asked for input and whether or not that input was considered)

2. Disability accessibility: This area will focus on customer satisfaction data related to disability access to Interior buildings, facilities, trails, etc.

3. Management practices: This area covers questions relating to how well customers are satisfied with Interior management practices and processes, what improvements they might make to specific processes, and whether or not they feel specific issues were addressed and reconciled in a timely, courteous, responsive manner.

4. Resource management: Questions will ask customers and partners to provide satisfaction data related to Interior's ability to protect, conserve, provide access to, and preserve natural resources that we manage.

5. Rules, regulations, policies: This area focuses on obtaining feedback from customers regarding fairness, adequacy, and consistency in enforcing rules, regulations, and policies for which Interior is responsible. It will also help us understand public awareness of rules and regulations and whether or not they are articulated in a clear and understandable manner.

6. Service delivery: Questions will seek feedback from customers regarding the manner in which services were delivered to them by Interior. Attributes will range from the courtesy of Interior staff to timeliness of service delivery and staff knowledge of the services being delivered.

7. Technical assistance: Questions developed within this topic area will focus on obtaining customer feedback regarding attributes of technical assistance—ranging from timeliness, to quality, to usefulness, and the skill level of staff providing this assistance.

8. Program-specific: Questions for this area will reflect the specific details of a program that pertain to its customer respondents. The questions will be developed to address very specific and/or technical issues related to the program. The questions will be geared toward gaining a better understanding about how to provide specific products and services and the public's attitude toward their usefulness.

9. General demographics: Some general demographics may be used to augment satisfaction questions in order to better understand the customer so that we can improve how we serve that customer. Demographics data will range from asking customers how many times they have used an Interior service or visited an Interior facility in the past X timeframe to their ethnic group or race. Sensitivity will be used in developing and selecting questions under this topic area so that the customer does not perceive an intrusion upon his/her privacy.

This effort does not duplicate any other survey being done by DOI or other Federal agencies. Other Federal agencies are conducting user surveys but are not soliciting comments on the delivery of DOI or DOI bureau/office products and services. As part of this effort, DOI consulted with other agencies, including the Department of Agriculture and the U.S. Environmental Protection Agency, who conduct surveys of similar customers.

Anticipated Public Burden: We estimate approximately 60,000 respondents submit DOI customer satisfaction surveys and comment cards annually. The average public burden to complete a customer survey is 15 minutes. For comment cards, the average public burden is estimated at 3 minutes. Given these estimates, DOI anticipates a budget of 18,000 hours per year for the proposed renewal. No non-hour cost burden has been identified.

Methodology: All requests to collect information under the auspices of this proposed renewal will be carefully evaluated to ensure consistency with the intent, requirements, and boundaries of this programmatic clearance. Interior's Office of Planning and Performance Management will conduct an administrative review of each request and oversee technical reviews to ensure statistical validity and soundness. All information collection instruments will be designed and deployed based upon acceptable statistical practices and sampling methodologies, and will be used to obtain consistent, valid, data that are representative of the sample, account for non-response bias, and target response rates at or above 70%.

All submissions under the program of expedited approval must include a description of the survey methodology. This description must be specific and describe each of the following: (a) Respondent universe, (b) the sampling plan and all sampling procedures, including how individual respondents will be selected, (c) how the information collection instrument will be administered, (d) expected response rate and confidence, and (e) levels strategies for dealing with potential non-response bias. A description of any pre-testing and peer review of the methods and/or instrument is also highly encouraged.

Improved information technology will be used, when possible, to reduce the burden on the public and to comply with requirements of the Government Paperwork Elimination Act (GPEA). Electronic mail may be used to introduce and distribute information collection instruments to a sample of customers. In some cases, the instruments may be web-enabled so that respondents can complete them online, enabling the response analysis to be automated. In all cases, appropriate non-response bias strategies will be used to ensure that responses are representative of the contact universe.

Comment Policy: The Paperwork Reduction Act (PRA) provides that a Federal agency may not conduct or sponsor, and a person is not required to respond to, a collection of information unless it displays a currently valid OMB Control Number. Before submitting an information collection request (ICR) to OMB, PRA section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology. We will summarize written responses to this notice and address them in our submission for OMB approval, including any appropriate adjustments to the estimated burden.

Agencies must estimate both the “hour” burden and “non-hour cost” burden to respondents or record keepers resulting from the collection of information. We have not identified any non-hour cost burdens for the information collection aspects of the programmatic customer satisfaction survey. Therefore, if you have costs to generate, maintain, and disclose this information, you should comment and provide your total capital and startup cost components or annual operation, maintenance, and purchase of service components. You should describe the methods you use to estimate major cost factors, including system and technology acquisition, expected useful life of capital equipment, discount rate(s), and the period of which you incur costs. Capital and startup costs include, among other items, computers and software you purchase to prepare for collecting information, monitoring, and record storage facilities. Generally, your estimates should not include equipment or services purchased: (1) Before October 1, 1995; (2) to comply with requirements not associated with the information collection; (3) for reasons other than to provide information or keep records for the Government; or (4) as part of customary and usual business or private practices.

Our practice is to make comments, including names and home addresses of respondents, available for public review during regular business hours. Individual respondents may request that we withhold their home address from the record, which we will honor to the extent allowable by law. There may be circumstances in which we would withhold from the record a respondent's identity, as allowable by law. If you wish us to withhold your name and/or address, you must state this prominently at the beginning of your comment.

However, we will not consider anonymous comments. We will make all submissions from organizations or business, and from individuals identifying themselves as representatives of organizations or businesses, available for public inspection in their entirety.

Dated: April 30, 2004.
Raymond Beittel,
Acting Director, Office of Planning and Performance Management.

[FR Doc. 04-10545 Filed 5-7-04; 8:45 am]

BILLING CODE 4310-RK-M